DEPARTMENT OF THE INTERIOR

Bureau of Land Management

[LLWO2600000 L10600000 XQ0000]

Wild Horse and Burro Advisory Board; Meeting

AGENCY: Bureau of Land Management, Interior.

ACTION: Notice.

SUMMARY: The Bureau of Land Management (BLM) announces that the Wild Horse and Burro Advisory Board will conduct a meeting on matters pertaining to management and protection of wild, free-roaming horses and burros on the Nation's public lands.

DATES: The Advisory Board will meet on Thursday, October 13, 2011, from 8 a.m. until 5 p.m. and on Friday, October 14, 2011, from 8 a.m. until 12 p.m., local time. This will be a two-day meeting.

ADDRESSES: This Advisory Board meeting will take place in Arlington, Virginia at the Hyatt Regency Crystal City, 2799 Jefferson Davis Highway, Arlington, Virginia 22202. The hotel phone number for reservations is 703-418-1234 and the fax number is 703-418-1233.

Written comments pertaining to the October 13-14, 2011, Advisory Board meeting can be mailed to National Wild Horse and Burro Program,WO-260, Attention: Ramona DeLorme, 1340 Financial Boulevard, Reno, Nevada, 89502-7147, or sent electronically to the BLM through the Wild Horse and Burro Web site at: http://www.blm.gov/wo/st/en/prog/whbprogram/recent_news_and_information/enhanced_feedback_form.html. All comments should be submitted no later than close of business on October 5, 2011.

FOR FURTHER INFORMATION CONTACT: Ramona DeLorme, Wild Horse and Burro Administrative Assistant, at 775-861-6583. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Wild Horse and Burro Advisory Board advises the Secretary of the Interior, the BLM Director, the Secretary of Agriculture, and the Chief of the Forest Service on matters pertaining to the management and protection of wild, free-roaming horses and burros on the Nation's public lands. The Wild Horse and Burro Advisory Board operates under the authority of 43 CFR part 1784. The tentative agenda for the two-day event is:

I. Advisory Board Public Meeting

Thursday, October 13, 2011 (8 p.m.-5 p.m.)

8 a.m. Call to Order and Introductions

8:30 a.m. Old Business

Approval of March 2011 Minutes

9 a.m. Program Updates

Gathers

Adoptions

Budget

Facilities

Lunch (11:45 p.m.-1 p.m.)

1 p.m. New Business

3 p.m. Public Comments

5 p.m. Adjourn

Friday, October 14, 2011 (8 a.m.-12 p.m.)

8 a.m. New Business (continued)

10 a.m. Board Recommendations

11:30 a.m. Recap/Summary/Next Meeting/Date/Site

12 p.m. Adjourn

The meeting site is accessible to individuals with disabilities. An individual with a disability needing an auxiliary aid or service to participate in the meeting, such as an interpreting service, assistive listening device, or materials in an alternate format, must notify Ms. DeLorme two weeks before the scheduled meeting date. Although the BLM will attempt to meet a request received after that date, the requested auxiliary aid or service may not be available because of insufficient time to arrange it.

The Federal Advisory Committee Management Regulations at 41 CFR 101-6.1015(b), require BLM to publish in the Federal Register notice of a public meeting 15 days prior to the meeting date.

II. Public Comment Procedures

On Thursday, October 13, 2011, members of the public will have the opportunity to make comments to the Board on the Wild Horse and Burro Program. Persons wishing to make comments during the Thursday meeting should register with the BLM by 1 p.m. on October 13, 2011, in person, at the meeting location. Depending on the number of comments, the Advisory Board may limit the length of comments. At previous meetings, comments have been limited to three minutes in length; however, this time may vary. Commenters should address the specific wild horse and burro-related topics listed on the agenda. Speakers must submit a written copy of their statement to the address listed in the ADDRESSES section above or bring a written copy to the meeting.

Participation in the Advisory Board meeting is not a prerequisite for submission of written comments. The BLM invites written comments from all interested parties. Your written comments should be specific and explain the reason for any recommendation. The BLM appreciates any and all comments. The BLM considers comments that are either supported by quantitative information or studies or those that include citations to and analysis of applicable laws and regulations to be the most useful and likely to influence BLM's decisions on the management and protection of wild horses and burros. The BLM will not necessarily consider comments received after the close of business on October 13, 2011.

Before including your address, phone number, e-mail address, or other personal identifying information in your comment, you should be aware that your entire comment—including your personal identifying information—may be made publicly available at any time. While you can ask us in your comment to withhold your personal identifying information from public review, we cannot guarantee that we will be able to do so.

Dated: August 29, 2011.
Edwin L. Roberson,
Assistant Director, Renewable Resources and Planning.

[FR Doc. 2011-22626 Filed 9-2-11; 8:45 am]

BILLING CODE 4310-84-P